DEPARTMENT OF COMMERCE

National Oceanic and Atmospheric Administration

Proposed Information Collection; Greater Atlantic Region, Atlantic Sea Scallop Fishery Management Plan Data Collection

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 5, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Cynthia Ferrio, Greater Atlantic Regional Fisheries Office, 55 Great Republic Dr., Gloucester, MA 01930, (978) 281-9180, Cynthia.ferrio@noaa.gov.

SUPPLEMENTARY INFORMATION:

I. Abstract

This request is for a revision and extension of a current information collection.

Under the Magnuson-Stevens Fishery Conservation and Management Act, the Secretary of Commerce has the responsibility for the conservation and management of marine fishery resources. Much of this responsibility has been delegated to NOAA's National Marine Fisheries Service (NMFS). NMFS manages the Atlantic sea scallop (scallop) fishery through a set of regulations that limit catch of scallops and fishing vessel activity. In addition, regulations limit catch of certain other species of fish in order to minimize bycatch and bycatch mortality (bycatch is the catch and discard of species that are not targeted in the scallop fishery). Finally, the regulations control vessel permitting and the exchange of effort and quota allocations between vessels.

In order to effectively manage these resources, track fishing effort and catch, and to allow vessel owners to exchange fishing trips and quota, NMFS must collect information through the reporting requirements included in this renewal. This renewal contains the following information collections: Vessel Monitoring System (VMS) requirements; Access area trip exchange application procedures; Individual Fishing Quota (IFQ) transfers; Cost recovery; and IFQ sector program.

Access Area Trip Exchange Application

The one-for-one access area trip exchange program provides flexibility to scallop vessels about where they may fish. Participants need to send an access area trip exchange application to NMFS with the following information: Vessel name and permit number, owner name and signature, specification of the areas involved in the exchange. Both vessels involved in the exchange are required to submit forms for cross verification. This measure is expected to provide flexibility to vessels regarding which areas to fish, thereby reducing the possibility of revenue loss to those vessels that are unable to access some distant areas due to vessel capacity constraints.

IFQ Transfers

IFQ permit holders can temporarily and/or permanently transfer individual fishing quota from one IFQ vessel to another. Quota transfers are requested through the submission of transfer applications. Required information includes vessel information, quota transfer information, and authorizing signatures from both parties. The IFQ transfer program is entirely optional, and provides greater flexibility for IFQ permit holders by enabling them to increase their vessel's IFQ or for individuals to lease or sell IFQ if they choose not to fish the allocation.

Cost Recovery

Section 304(d)(2) of the Magnuson-Stevens Act (MSA) requires an IFQ cost recovery plan to recover management and enforcement costs for IFQ fisheries. The FMP includes an IFQ cost recovery program, whereby NMFS will collect up to 3% of ex-vessel value of landed product to cover actual costs directly related to enforcement and management of the IFQ program. IFQ permit holders are required to submit a cost recovery payment annually via a pre-existing Federal payment system called www.pay.gov, which is also currently used by the Alaska Region and the Southeast Region. Information submitted via the internet would require the user to establish an online account, including personal and financial information. This requirement is necessary in order to comply with the provisions of the MSA and to collect payments from individuals that have been granted an allocation to a public resource.

IFQ Sector Program

The FMP contains provisions that authorize allocation of a portion of the overall IFQ fishery total allowable catch (TAC) to a self-selected group of IFQ permit holders (sector), provided the sector provides adequate information describing the formation of the sector and its intended plan of operations. Individuals or other entities (corporations, cooperatives, etc.) proposing a sector are required to submit a Sector Allocation Proposal and Operations Plan. Any person may submit a Sector Allocation Proposal for a group of limited access general category scallop vessels to the Council, at least 1 year in advance of the start of a sector, and request that the Sector be implemented through a framework procedure specified at § 648.55. A group that wants to form a Sector and receive an allocation is required to submit a legally binding Operations Plan to the Council and the Regional Administrator. The operations plan must be agreed upon and signed by all members of the sector and, if approved, would constitute a contract. This information is necessary to describe the proposed sector and the proposed rules under which the sector would operate. This information is used to determine whether this sector would maintain consistency with the goals and objectives of the FMP.

VMS Requirements

Vessel Monitoring System (VMS) requirements are now collected under the approved OMB Control No. 0648-0202 and are being removed from 0648-0491.

II. Method of Collection

Participants will submit paper applications by mail, facsimile, or email.

III. Data

OMB Number: 0648-0491.

Form Number: None.

Type of Review: Regular submission (revision and extension of a currently approved collection).

Affected Public: Businesses and other for-profit organizations are primarily affected.

Estimated Number of Respondents: 647.

Estimated Time per Response: Cost recovery, 2 hours; Sector proposals, 150 hours; Sector operations plans, 100 hours; IFQ transfer application 35 hours; Access area trip exchange, 45 hours.

Estimated Total Annual Burden Hours: 980.

Estimated Total Annual Cost to Public: $23,932.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-04596 Filed 3-5-20; 8:45 am]

BILLING CODE 3510-22-P